DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treas.gov/ofac).

Notice of OFAC Actions

On May 30, 2018, OFAC determined that the property and interests in property subject to U.S. jurisdiction of the following persons are blocked under the relevant sanctions authorities listed below.

Individuals

1. MOHTASHAM, Abdolhamid

(a.k.a. MOHTASHAM, Abdol-Hamid; a.k.a. MOHTASHAM, Abdul-Hamid), Iran; DOB 1955 to 1957; Additional Sanctions Information—Subject to Secondary Sanctions; Gender Male (individual) [IRAN-HR] (Linked To: ANSAR-E HEZBOLLAH).

Designated pursuant to section 1(a)(ii)(C) of Executive Order 13553 of September 28, 2010, “Blocking Property of Certain Persons With Respect to Serious Human Rights Abuses by the Government of Iran and Taking Certain Other Actions” (E.O. 13553), for having acted or purported to act for or on behalf of, directly or indirectly, ANSAR-E HEZBOLLAH, a person determined to be subject to E.O. 13553.

2. OSTAD, Hamid, Iran; DOB 1964 to 1966; Additional Sanctions Information—Subject to Secondary Sanctions; Gender Male (individual) [IRAN-HR] (Linked To: ANSAR-E HEZBOLLAH).

Designated pursuant to section 1(a)(ii)(C) of E.O. 13553 for having acted or purported to act for or on behalf of, directly or indirectly, ANSAR-E HEZBOLLAH, a person determined to be subject to E.O. 13553.

3. ALLAHKARAM, Hossein

Iran; DOB 1944 to 1946; POB Najafabad, Iran; Additional Sanctions Information—Subject to Secondary Sanctions; Gender Male (individual) [IRAN-HR] (Linked To: ANSAR-E HEZBOLLAH).

Designated pursuant to section 1(a)(ii)(C) of E.O. 13553 for having acted or purported to act for or on behalf of, directly or indirectly, ANSAR-E HEZBOLLAH, a person determined to be subject to E.O. 13553.

4. ALI-ASGARI, Abdulali, Iran; DOB 1958 to 1959; Additional Sanctions Information—Subject to Secondary Sanctions; Gender Male (individual) [IRAN-TRA] (Linked To: ISLAMIC REPUBLIC OF IRAN BROADCASTING).

Designated pursuant to section 3(a)(iii) of Executive Order 13628 of October 9, 2012, “Authorizing the Implementation of Certain Sanctions Set Forth in the Iran Threat Reduction and Syria Human Rights Act of 2012 and Additional Sanctions With Respect to Iran” (E.O. 13628), for having acted or purported to act for or on behalf of, directly or indirectly, ISLAMIC REPUBLIC OF IRAN BROADCASTING, a person determined to be subject to E.O. 13628.

5. FIROUZABADI, Abdolhassan, Iran; DOB 08 Jan 1962; citizen Iran; Additional Sanctions Information—Subject to Secondary Sanctions; Gender Male (individual) [IRAN-TRA].

Designated pursuant to section 3(a)(i) of E.O. 13628 for having engaged in censorship or other activities with respect to Iran on or after June 12, 2009, that prohibit, limit, or penalize the exercise of freedom of expression or assembly by citizens of Iran, or that limit access to print or broadcast media, including the facilitation or support of intentional frequency manipulation by the Government of Iran or an entity owned or controlled by the Government of Iran that would jam or restrict an international signal.

6. KHORAMABADI, Abdolsamad, Iran; DOB 01 Jul 1960; citizen Iran; Additional Sanctions Information—Subject to Secondary Sanctions; Gender Male (individual) [IRAN-TRA].

Designated pursuant to section 3(a)(i) of E.O. 13628 for having engaged in censorship or other activities with respect to Iran on or after June 12, 2009, that prohibit, limit, or penalize the exercise of freedom of expression or assembly by citizens of Iran, or that limit access to print or broadcast media, including the facilitation or support of intentional frequency manipulation by the Government of Iran or an entity owned or controlled by the Government of Iran that would jam or restrict an international signal.

Entities

1. ANSAR-E HEZBOLLAH

(a.k.a. ANSAR HEZBOLLAH; a.k.a. ANSAR UL HEZBOLLAH; a.k.a. ANSAR-I HEZBOLLAH; a.k.a. ANSAR-I HIZBULLAH; a.k.a. SUPPORTERS OF THE PARTY OF GOD), Iran; Additional Sanctions Information—Subject to Secondary Sanctions [IRAN-HR].

Designated pursuant to section 1(a)(ii)(A) of E.O. 13553 for being an official of the Government of Iran or a person acting on behalf of the Government of Iran (including members of paramilitary organizations) who is responsible for or complicit in, or responsible for ordering, controlling, or otherwise directing, the commission of serious human rights abuses against persons in Iran or Iranian citizens or residents, or the family members of the foregoing, on or after June 12, 2009, regardless of whether such abuses occurred in Iran.

2. EVIN PRISON, Tehran, Iran; Additional Sanctions Information—Subject to Secondary Sanctions [IRAN-HR].

Designated pursuant to section 1(a)(ii)(A) of E.O. 13553 for being an official of the Government of Iran or a person acting on behalf of the Government of Iran (including members of paramilitary organizations) who is responsible for or complicit in, or responsible for ordering, controlling, or otherwise directing, the commission of serious human rights abuses against persons in Iran or Iranian citizens or residents, or the family members of the foregoing, on or after June 12, 2009, regardless of whether such abuses occurred in Iran.

3. HANISTA PROGRAMING GROUP

(a.k.a. HANISTA DEVELOPER GROUP), Iran; Additional Sanctions Information—Subject to Secondary Sanctions [HRIT-IR].

Designated pursuant to section 1(a)(ii)(A) of Executive Order 13606 of April 22, 2012, “Blocking the Property and Suspending Entry Into the United States of Certain Persons With Respect to Grave Human Rights Abuses by the Governments of Iran and Syria via Information Technology,” for having operated, or having directed the operation of, information and communications technology that facilitates computer or network disruption, monitoring, or tracking that could assist in or enable serious human rights abuses by or on behalf of the Government of Iran or the Government of Syria.

Additionally, on May 30, 2018, OFAC updated the entries on the Specially Designated Nationals and Blocked Persons List for the following entities, whose property and interests in property subject to U.S. jurisdiction continue to be blocked under the relevant sanctions authorities listed below.

Entities

1. AL-BILAD ISLAMIC BANK FOR INVESTMENT AND FINANCE P.S.C. (a.k.a. AL BILAD ISLAMIC BANK), 37 Building El-Karadeh 909 Street 1 Near Al Hurea Square, Baghdad, Iraq; Al Masbah Branch, Baghdad Al Masbah Intersection, 929 Street 17 Bldg. 40, Previously the German Embassy, Baghdad, Iraq; Erbil Branch, Erbil Province, 60 Bldg 354/132, 45 Street, Erbil, Iraq; Al Mawarid Branch, Baghdad—Street 62 Neighboring the Department of Electricity, Baghdad, Iraq; Al Nasiryah Branch, Zi Kar Province El Saray, Bldg. 2/239 Janat Al Janoub Hotel Building, Nasiryah, Iraq; Al Basra Branch Al Basra, Manawy Pasha Corniche Street, Basra, Iraq; Al Sadr Branch, Jameela District—8-22-512, Sadr City, Iraq; Al Jaderya Branch Baghdad, Al Jaderya—Versus Baghdad University, 906 Street 28—Dar 3, Baghdad, Iraq; Karbala Branch Karbala, Al Dareeba Intersection, Karbala, Iraq; Al Najaf Branch, Al Najaf Al Ashraf, Al Amir District—Al Koufa Street, Najaf, Iraq; Zakho Branch Dahook, Zakho—Ibrahim Al Khaleel Street, Baydar Boulevard, Zakho, Iraq; Al Mansour Branch Baghdad, Al Mansour-12-G 605-M-Bldg, Baghdad, Iraq; Babel Branch Babel, Kalaj—Al Honood Branch, Babel, Iraq; Beirut Branch Lebanon, Beirut—Hamra Street, Broadway Center—Versus Costa Caf, Lebanon, Beirut, Lebanon; SWIFT/BIC AIIFIQBA; website www.Bilad-Bank.com; Additional Sanctions Information—Subject to Secondary Sanctions; All Branches Worldwide [SDGT] [IRGC] [IFSR] (Linked To: KAREEM, Aras Habib).

Designated on May 15, 2018 pursuant to section 1(c) of Executive Order 13224 of September 23, 2001, “Blocking Property and Prohibiting Transactions With Persons Who Commit, Threaten to Commit, or Support Terrorism,” (E.O. 13224) for being owned or controlled by ARAS HABIB KAREEM, a person determined to be subject to E.O. 13224.

2. AL-NASER AIRLINES (a.k.a. AL NASER WINGS; a.k.a. AL NASER WINGS AIRLINES; a.k.a. ALNASER AIRLINES), Al-Karrada, Babil Region—District 929, St. 21, Home 46, Baghdad, Iraq; P.O. Box 28360, Dubai, United Arab Emirates; P.O. Box 911399, Amman 11191, Jordan; Additional Sanctions Information—Subject to Secondary Sanctions [SDGT] [IFSR] (Linked To: MAHAN AIR).

Designated on May 21, 2015 pursuant to section 1(d)(i) of E.O. 13224 for assisting in, sponsoring, or providing financial, material, technological support for, or financial or other services to or in support of, Iran's MAHAN AIR, a person determined to be subject to E.O. 13224.

3. DART AIRLINES (a.k.a. AIR ALANNA; a.k.a. DART AIRCOMPANY; a.k.a. DART UKRAINIAN AIRLINES; a.k.a. TOVARYSTVO Z OBMEZHENOYU VIDPOVIDALNISTYU 'DART'; a.k.a. “ALANNA”; a.k.a. “ALANNA LLC”; a.k.a. “DART, LLC”; a.k.a. “DART, TOV”), 26a, Narodnogo Opolchenyia Street, Kiev 03151, Ukraine; Kv. 107, Bud. 15/2 Vul.Shuliavska, Kyiv 01054, Ukraine; Ave. Vozdukhoflostsky 90, Kiev 03036, Ukraine; Additional Sanctions Information—Subject to Secondary Sanctions; Tax ID No. 252030326052 (Ukraine); Government Gazette Number 25203037 (Ukraine) [SDGT] [IFSR] (Linked To: CASPIAN AIRLINES).

Designated on September 14, 2017 pursuant to section 1(d)(i) of E.O. 13224 for assisting in, sponsoring, or providing financial, material, technological support for, or financial or other services to or in support of, Iran's CASPIAN AIR, a person determined to be subject to E.O. 13224.

Dated: May 30, 2018.
Andrea M. Gacki,
Acting Director, Office of Foreign Assets Control.

[FR Doc. 2018-12189 Filed 6-6-18; 8:45 am]

BILLING CODE 4810-AL-P